DEPARTMENT OF ENERGY

Federal Energy Regulatory Commission

[Docket No. OR11-8-000]

Flint Hills Resources Alaska, LLC; Notice of Petition for Declaratory Order

Take notice that on May 3, 2011, in accordance with Rule 207(a)(2) of the Rules of Practice and Procedure of the Federal Energy Regulatory Commission (18 CFR 385.207(a)(2)(2010)), Flint Hills Resources Alaska, LLC (Flint Hills) filed a petition for an order declaring that an as-yet unfiled, but anticipated, revision to the tariffs and documents governing transportation of crude oil on the Trans Alaskan Pipeline System (TAPS) is unjust, unreasonable and unduly discriminatory and therefore, unlawful.

Flint Hills states that the anticipated revision would impose a minimum temperature requirement of 105 degrees F for residual crude oil that Flint Hills returns to TAPS after the oil has been shipped 300 miles from Prudhoe Bay to Flint Hills' North Pole Refinery, where the crude oil is received at 40 degrees F, refined into products, with the residual stream returned to TAPS for resumption of its transportation to Valdez, Alaska.

Any person desiring to intervene or to protest in this proceeding must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Comment Date: 5 p.m. Eastern Time on Wednesday, May 25, 2011.

Dated: May 11, 2011.
Kimberly D. Bose,
Secretary.

[FR Doc. 2011-12129 Filed 5-17-11; 8:45 am]

BILLING CODE 6717-01-P